DEPARTMENT OF AGRICULTURE

Forest Service

Notice of New Recreation Fee Site; Federal Lands Recreation Enhancement Act (Title VIII, Pub. L. 108-447)

AGENCY: Forest Service, USDA.

ACTION: Notice of new recreation fee site.

SUMMARY: The National Forests in North Carolina will begin charging a $3.00 special recreation permit trail fee per day per mountain bike rider and $20.00 per mountain bike rider for a season pass for use of the Woodrun mountain bike trail system. This trail system consists of 24 miles of trails managed primarily for use by mountain bikers. The trail system is managed to protect environmental and cultural resource sites and will facilitate continued mountain bike use within the National Forests in North Carolina on the Uwharrie Ranger District. Fee revenue will support operations and maintenance of the trail system and trailhead and future site improvements.

DATES: The fee is scheduled for implementation in May of 2007.

FOR FURTHER INFORMATION CONTACT: David H. Wright, Recreation Fee Coordinator, 828-257-4256, National Forests in North Carolina, P.O. Box 2750, Asheville, NC 28802.

SUPPLEMENTARY INFORMATION: The Federal Recreation Lands Enhancement Act (Title VIII, Pub. L. 108-447) directed the Secretary of Agriculture to publish advance notice in the Federal Register whenever new recreation fee areas are established. This new fee will reviewed by a Recreation Resource Advisory Committee prior to a final decision and implementation. The National Forests in North Carolina presently manages one other mountain bike trail system fee site in North Carolina. Recreation fees are $3.00 per mountain bike per day and $20.00 per mountain bike per season pass at this site. The Woodrun mountain bike trail system will offer a vault toilet facility at the trailhead, trash receptacle, improved parking area, information kiosk, area specific map, and access to twenty-four miles of mountain bike trails.

Dated: November 3, 2006.
Marisue Hilliard,
National Forests in North Carolina Supervisor.

[FR Doc. 06-9161 Filed 11-7-06; 8:45 am]

BILLING CODE 3410-52-M